DEPARTMENT OF DEFENSE

Office of the Secretary

[Transmittal No. 15-60]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/ (703) 607-5339.

The following is a copy of a letter to the Speaker of the House of Representatives, Transmittal 15-60 with attached Policy Justification and Sensitivity of Technology.

Dated: November 25, 2015.
Aaron Siegel,
Alternate OSD Federal Register Liaison Officer, Department of Defense.

BILLING CODE 5001-06-P

BILLING CODE 5001-06-C

Transmittal No. 15-60

Notice of Proposed Issuance of Letter of Offer Pursuant to Section 36(b)(1) of the Arms Export Control Act, as amended

(i) Prospective Purchaser: The Government of Finland.

(ii) Total Estimated Value:

Major Defense Equipment * | $ 100 million
Other | $ 50 million
TOTAL | $ 150 million

(iii) Description and Quantity or Quantities of Articles or Services Under Consideration for Purchase:

The Government of Finland has requested a possible sale of forty (40) Guided Multiple Launch Rocket System Pods: Fifteen Pods of M31A1 Unitary Missiles (6 missiles per pod for a total of 90 missiles) and 25 Pods of M30A1 Alternative Warhead Missiles (6 missiles per pod for a total of 150 missiles).

Also included with this request are publications, personnel training and training equipment, software development, U.S. Government and contractor engineering, technical and logistics support services, and other related elements of logistical and program support.

(iv) Military Department: Army (VAP & VAQ).

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: 09 NOV 2015.

* as defined in Section 47(6) of the Arms Export Control Act

POLICY JUSTIFICATION

Finland—Guided Multiple Launch Rocket System (GMLRS) M31A1 Unitary and GMLRS M30A1 Alternative Warhead Rockets in Pods

The Government of Finland has requested a possible sale of forty (40) Guided Multiple Launch Rocket Pods: Fifteen Pods of M31A1 Unitary Missiles (6 missiles per pod for a total of 90 missiles) and 25 Pods of M30A1Alternative Warhead Missiles (6 missiles per pod for a total of 150 missiles). Also included are publications, personnel training and training equipment, software development, U.S. Government and contractor engineering, technical and logistics support services, and other related elements of logistical and program support. The total estimated cost is $150 million.

This proposed sale will contribute to the foreign policy and national security objectives of the United States by helping to improve the security of a friendly country which has been, and continues to be, an important force for political stability and economic progress in Europe. The proposed sale of the GMLRS M31A1 Unitary and M30A1 GMLRS Alternative Warhead Rockets will improve Finland's capability to meet current and future threats.

Finland will use this enhanced capability to strengthen and secure its national borders. Finland will have no difficulty absorbing these rocket pods into its armed forces.

The proposed sale of this equipment and support will not alter the basic military balance in the region.

The prime contractor will be Lockheed Martin Missile and Fire Control in Grand Prairie, TX. There are no known offset agreements in connection with this potential sale.

Implementation of this proposed sale will not require the assignment of any additional U.S. or contractor representatives in Finland.

There will be no adverse impact on U.S. defense readiness as a result of this proposed sale.

Transmittal No. 15-60

Notice of Proposed Issuance of Letter of Offer Pursuant to Section 36(b)(1) of the Arms Export Control Act

Annex—Item No. vii

(vii) Sensitivity of Technology:

1. Guided Multiple Launch Rocket System (GMLRS) M31A1 is the Army's primary organic Joint Expeditionary, all-weather, 24/7, tactical GPS PPS precision-guided rocket. M31A1 is the primary rocket for units fielded with the High Mobility Artillery Rocket System (HIMARS) M142 and Multiple Launch Rocket System (MLRS) M270A1 Rocket/Missile Launcher platforms. The M31A1 provides close, medium, and long range precision and area fires to destroy, suppress, and shape threat forces and protect friendly forces. The M31A1 integrates guidance and control packages and an improved rocket motor achieving greater range and precision accuracy. The M31A1 Unitary is the only variant currently in production, integrating a multi-option mode proximity height of burst (HOB) sensor fuze and high explosive warhead making it an all-weather, low collateral damage, precision strike rocket. GMLRS Unitary expands the MLRS/HIMARS target set into urban and complex environments by adding, point, proximity and delay fuzing modes. The highest level of classified information that may be transferred by export of this munition is SECRET.

2. Guided Multiple Launch Rocket System (GMLRS) M30A1 will be the Army's primary organic Joint Expeditionary, all-weather, 24/7, tactical precision guided rocket. The M30A1 Alternative Warhead (AW) will be the primary munition for units fielded with the High Mobility Artillery Rocket System (HIMARS) and Multiple Launch Rocket System (MLRS) M270A1 Rocket/Missile Launcher platforms. M30A1 AW is designed to replace the M26 and M30 Dual Purpose Improved Conventional Munitions (DIPCM), to attack/neutralize/suppress/destroy area and precisely locate targets using indirect precision fires while greatly decreasing the probability of Unexploded Ordinance (UXO). M30A1 AW shares more than 90% commonality with the GMLRS M31A1 Unitary. The commonality includes the motor, GPS PPS inertial guidance and control systems, fuzing mechanisms and proximity multi-option HOB fuze capability. Only the warhead/payload is different. The highest level of classified information that may be transferred by export of this munition is SECRET.

3. All defense articles and services listed in this transmittal have been authorized for release and export to the Government of Finland.

[FR Doc. 2015-30468 Filed 11-30-15; 8:45 am]

BILLING CODE 5001-06-P